NATIONAL AERONAUTICS AND SPACE ADMINISTRATION

[Notice (11-092)]

Privacy Act of 1974; Privacy Act System of Records

AGENCY: National Aeronautics and Space Administration (NASA).

ACTION: Notice of the retirement of one Privacy Act system of records notice.

SUMMARY: In accordance with the Privacy Act of 1974, NASA is giving notice that it proposes to cancel the following Privacy Act system of records notice, Biographical Records for Public Affairs (September 30, 2009, 74 FR 50247) as the records maintained are all published publicly.

DATES: This change will take effect 30 calendar days from the date of this publication.

FOR FURTHER INFORMATION CONTACT: Patti F. Stockman, Privacy Act Officer, Office of the Chief Information Officer, National Aeronautics and Space Administration Headquarters, Washington, DC 20546-0001, (202) 358-4787, NASA-PAOfficer@nasa.gov.

SUPPLEMENTARY INFORMATION: Pursuant to the provisions of the Privacy Act of 1974, 5 U.S.C. 552a, and as part of its biennial System of Records review efforts, NASA is cancelling the system of records notice, Biographical Records for Public Affairs (September 30, 2009, 74 FR 50247).

All information contained in these records on prominent NASA employees is provided voluntarily by the individuals themselves with the understanding their full biographies will be made publicly available by the Agency.

Submitted by:
Linda Y. Cureton,
NASA Chief Information Officer.

[FR Doc. 2011-26733 Filed 10-14-11; 8:45 am]

BILLING CODE 7510-13-P